DEPARTMENT OF ENERGY

Federal Energy Regulatory Commission

[Project No. 12058-002]

Baker County; Notice of Intent to File License Application, Filing of Pre-Application Document, Commencement of Licensing Proceeding, Scoping Meetings, Solicitation of Comments on the Pad and Scoping Document, and Identification of Issues and Associated Study Requests

June 27, 2006.

a. Type of Filing: Notice of Intent to File License Application for an original License and Pre-Application Document.

b. Project No.: 12058-002.

c. Dated Filed: April 27, 2006.

d. Submitted By: Baker County.

e. Name of Project: Mason Dam Hydroelectric Project.

f. Location: The proposed Mason Dam Hydroelectric Project would be located on the Powder River in Baker County, Oregon. The proposed project would likely occupy lands of the United States within the jurisdiction of the U.S. Forest Service and the Bureau of Reclamation.

g. Filed Pursuant to: 18 CFR part 5 of the Commission's Regulations.

h. Potential Applicant Contact: Fred Warner Jr., County Commission Chair, 1995 3rd Street, Baker City, OR, 97814, (541) 523-8200.

i. FERC Contact: Kenneth Hogan (202) 502-8434 or via e-mail at Kenneth.Hogan@ferc.gov.

j. We are asking Federal, State, local, and tribal agencies with jurisdiction and/or special expertise with respect to environmental issues to cooperate with us in the preparation of the environmental document. Agencies who would like to request cooperating status should follow the instructions for filing comments described in paragraph n below.

k. With this notice, we are initiating informal consultation with: (a) The U.S. Fish and Wildlife Service and/or NOAA Fisheries under section 7 of the Endangered Species Act and the joint agency regulations there under at 50 CFR Part 402; and (b) the State Historic Preservation Officer, as required by section 106, National Historical Preservation Act, and the implementing regulations of the Advisory Council on Historic Preservation at 36 CFR 800.2.

l. Baker County filed a Pre-Application Document (PAD); including a proposed process plan and schedule with the Commission, pursuant to 18 CFR 5.6 of the Commission's regulations.

m. Copies of the PAD and Scoping Document 1 (SD1) are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph n.

Register online at http://ferc.gov/esubscribenow.htm to be notified via e-mail of new filing and issuances related to this or other pending projects. For assistance, contact FERC Online Support.

n. With this notice, we are soliciting comments on the PAD and SD1 as well as study requests. All comments on the PAD and SD1, and study requests should be sent to the address above in paragraph h. In addition, all comments on the PAD and SD1, study requests, requests for cooperating agency status, and all communications to Commission staff related to the merits of the potential application (original and eight copies) must be filed with the Commission at the following address: Magalie R. Salas, Secretary, Federal Energy Regulatory Commission, 888 First Street, NE., Washington, DC 20426. All filings with the Commission must include on the first page, the project name (Mason Dam Hydroelectric Project) and number (P-12058-002), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by August 25, 2006.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

o. At this time, Commission staff intends to prepare an Environmental Assessment for the project, in accordance with the National Environmental Policy Act. However, there is the possibility that an Environmental Impact Statement (EIS) will be required. Nevertheless, the scoping meetings will satisfy the NEPA scoping requirements, irrespective of whether an EA or EIS is issued by the Commission.

Scoping Meetings

We will hold a daytime and night time scoping meeting at the times and places noted below. We invite all interested individuals, organizations, and agencies to attend one or both of the meetings, and to assist staff in identifying particular study needs, as well as the scope of environmental issues to be addressed in the environmental document. The time and location of these meetings are as follows:

Date and Time: Wednesday, July 26, 2006, 1 p.m. (PDT).

Location: Baker County's Extension Building, 2610 Grove Street, Baker City, Oregon.

Date and Time: Wednesday, July 26, 2006, 7 p.m. (PDT).

Location: Baker County's Extension Building, 2610 Grove Street, Baker City, Oregon.

For Directions: Please call Robin Nudd, of Baker County Board of Commissioners at (541) 523-8200.

Scoping Document 1 (SD1), which outlines the subject areas to be addressed in the environmental document, has been mailed to the individuals and entities on the Commission's mailing list. Copies of SD1 will be available at the scoping meetings, or may be viewed on the Web at http://www.ferc.gov, using the “eLibrary” link. Follow the directions for accessing information in paragraph p. Depending on the extent of comments received, a Scoping Document 2 (SD2) may or may not be issued.

Site Visit

The potential applicant and Commission staff will conduct a site visit of the proposed project on Tuesday, July 25, 2006, starting at 1 p.m. All participants should meet at the Baker County Courthouse, located at 1995 3rd Street, Baker City, Oregon, 97184. All participants are responsible for their own transportation. Anyone with questions about the site visit should contact Ms. Robin Nudd of Baker County Board of Commissioners at (541) 523-8200 on or before July 4, 2006.

Scoping Meeting Objectives

At the scoping meeting, staff will: (1) Present the proposed list of issues to be addressed in the EA; (2) review and discuss existing conditions and resource agency management objectives; (3) review and discuss existing information and identify preliminary information and potential study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the Pre-Application Document in preparation for the scoping meeting. Directions on how to obtain a copy of the PAD and SD1 are included in item m of this document.

Scoping Meeting Procedures

The scoping meeting will be recorded by a stenographer and will become part of the formal Commission record on the project.

Magalie R. Salas,
Secretary.

[FR Doc. E6-10988 Filed 7-12-06; 8:45 am]

BILLING CODE 6717-01-P